DEPARTMENT OF TRANSPORTATION

Federal Highway Administration

Notice To Rescind a Notice of lntent To Prepare an Environmental Impact Statement: Dallas and Ellis Counties, Texas

AGENCY: Federal Highway Administration (FHWA), DOT.

ACTION: Notice to rescind a Notice of Intent to prepare an Environmental Impact Statement.

SUMMARY: The FHWA is issuing this notice to advise the public that we are rescinding the Notice of Intent (NOI) and Draft Environmental Impact Statement (EIS) for proposed Loop 9 from US 287 to IH 20. A NOI to prepare an EIS for proposed Loop 9 was published in the Federal Register on August 2, 2002 (Volume 67, No. 149, Page 50504), with a subsequent revision to the project limits published in the Federal Register on January 20, 2004 (Vol. 69, No. 12, Page 2809).

FOR FURTHER INFORMATION CONTACT: Mr. Salvador Deocampo, District Engineer, District A, Federal Highway Administration, Texas Division, 300 East 8th Street, Room 826, Austin, Texas 78701. Telephone: (512) 536-5950, Email: salvador.deocampo@dot.gov. The FHWA Texas Division Office's normal business hours are 8 a.m. to 5 p.m. (Central Time).

SUPPLEMENTARY INFORMATION: The FHWA, in cooperation with the Texas Department of Transportation (TxDOT), published a NOI in the Federal Register on August 2, 2002 (Volume 67, No. 149, Page 50504), and a NOI revision was made on January 20, 2004 (Vol. 69, No. 12, Page 2809) to prepare an EIS for Loop 9 from US 287 to IH 20 in Dallas and Ellis Counties. The original notice can be viewed electronically at: http://www.gpo.gov/fdsys/pkg/FR-2002-08-02/html/02-19541.htm. The revised notice can be viewed electronically at: http://www.gpo.gov/fdsys/pkg/FR-2004-01-20/html/04-1131.htm. As a result of the retirement of the Trans Texas Corridor concept plan and change in the regional growth projections in the study area, it was determined that the travel demand in the Loop 9 project area would not warrant the project as originally proposed. TxDOT intends to conduct a feasibility study to determine a new direction for this transportation corridor. As a result, the above mentioned notices are rescinded.

(Catalog of Federal Domestic Assistance Program Number 20.205, Highway, Planning, and Construction. The regulations implementing Executive Order 12372 regarding intergovernmental consultation on Federal programs and activities apply to this program.)

Dated: March 12, 2013.
Salvador Deocampo,
District Engineer.

[FR Doc. 2013-06302 Filed 3-19-13; 8:45 am]

BILLING CODE 4910-22-P